DEPARTMENT OF TRANSPORTATION

National Highway Traffic Safety Administration

49 CFR Part 578

[Docket No. NHTSA-2016-0136]

RIN 2127-AL82

Civil Penalties

AGENCY: National Highway Traffic Safety Administration (NHTSA), Department of Transportation (DOT).

ACTION: Final rule; delay of effective date.

SUMMARY: Pursuant to notices published on January 30, 2017 and March 28, 2017, the effective date of the rule entitled “Civil Penalties,” published in the Federal Register on December 28, 2016, at 81 FR 95489, was temporarily delayed until June 26, 2017 (82 FR 8694; 82 FR 15302). This action temporarily delays the effective date of that rule for 14 additional days.

DATES: As of June 23, 2017, the effective date of the rule amending 49 CFR part 578 published at 81 FR 95489, December 28, 2016, delayed at 82 FR 8694, January 30, 2017, further delayed at 82 FR 15302, March 28, 2017, is further delayed until July 10, 2017.

FOR FURTHER INFORMATION CONTACT: Michael Kuppersmith, Office of Chief Counsel, (202) 366-5263.

SUPPLEMENTARY INFORMATION: Pursuant to notices published on January 30, 2017 and March 28, 2017, the effective date of the rule entitled “Civil Penalties,” published in the Federal Register on December 28, 2016, at 81 FR 95489, was temporarily delayed until June 26, 2017 (82 FR 8694; 82 FR 15302). The present action temporarily delays the effective date of that rule for 14 additional days. That rule responded to a petition for reconsideration from the Alliance of Automobile Manufacturers and the Association of Global Automakers by delaying, until model year 2019, the implementation of inflationary adjustments to the Corporate Average Fuel Economy (CAFE) civil penalty rate made pursuant to the Federal Civil Penalties Inflation Adjustment Act Improvements Act of 2015. The additional 14-day delay in effective date is necessary to temporarily preserve the status quo while Department officials continue to review and consider the final rule and related laws. To the extent that 5 U.S.C. 553 is applicable, this action is exempt from notice and comment because it constitutes a rule of procedure under 5 U.S.C. 553(b)(3)(A).

Authority: Pub. L. 101-410, Pub. L. 104-134, Pub. L. 109-59, Pub. L. 114-74, Pub L. 114-94, 49 U.S.C. 32902 and 32912; delegation of authority at 49 CFR 1.81, 1.95.

Jack Danielson,
Acting Deputy Administrator.

[FR Doc. 2017-13315 Filed 6-23-17; 8:45 am]

BILLING CODE 4910-59-P